DEPARTMENT OF ENERGY

Energy Information Administration

Policy Statement; Disclosure Limitation Policy for Statistical Information Based on Survey Data for Renewable Fuels, Alternative Fueled Vehicles, and Alternative Transportation Fuels

AGENCY: Energy Information Administration (EIA), Department of Energy (DOE).

ACTION: Policy statement; disclosure limitation policy for statistical information based on survey data for renewable fuels, alternative fueled vehicles, and alternative transportation fuels.

SUMMARY: The EIA is announcing its disclosure limitation policy for statistical information based on survey data collected on Forms EIA-63A (“Annual Solar Thermal Collector Manufacturers Survey”), EIA-63B (“Annual Photovoltaic Module/Cell Manufacturers Survey”), EIA-886 (“Annual Survey of Alternative Fueled Vehicle Suppliers and Users”), and EIA-902 (“Annual Geothermal Heat Pump Manufacturers Survey”). The policy is based on EIA's mandate for carrying out a central, comprehensive, and unified energy data and information program responsive to users' needs for credible, reliable, and timely energy information that will improve and broaden understanding of energy in the United States.

DATES: This policy becomes effective April 19, 2004.

ADDRESSES: Requests for additional information or questions about this policy should be directed to Fred Mayes, Chief of EIA's Renewables Information Team. Contact by e-mail (fred.mayes@eia.doe.gov) or FAX (202-287-1964) is recommended to expedite response. The mailing address is Renewables Information Team (EI-52), Forrestal Building, U.S. Department of Energy, 1000 Independence Ave., SW., Washington, DC 20585-0650. Alternatively, Mr. Mayes may be contacted by telephone at (202) 287-1750.

FOR FURTHER INFORMATION CONTACT: Requests for additional information should be directed to Mr. Mayes at the address listed above.

SUPPLEMENTARY INFORMATION:

I. Background

II. Discussion of Comments

III. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

On February 17, 2004, EIA issued two Federal Register notices. The first notice (69 FR 7459) requested public comments on EIA's disclosure limitation policy for statistical information based on alternative fueled vehicles and alternative transportation fuels survey data collected on Form EIA-886. The second notice (69 FR 7460) requested comments on EIA's disclosure limitation policy for renewable fuels survey data collected on Forms EIA-63A, EIA-63B, and EIA-902. In the notices, EIA discussed the proposed policies as well as EIA's reasons for proposing it.

When used, disclosure limitation methods are designed to minimize the possibility that individually-identifiable information reported by a survey respondent may be inferred from published statistics. The use of disclosure limitation methods would result in numerous renewable fuels, alternative fueled vehicles, and alternative transportation fuels statistics being suppressed from public dissemination and unavailable to public and private analysts. However, by not using disclosure limitation methods, a published statistic based on survey data from fewer than three respondents or dominated by data from one or two large respondents may be used by a knowledgeable person to estimate the data reported by a specific respondent.

While the specific forms and data elements in the renewable fuels, alternative fueled vehicles, and alternative transportation fuels surveys are expected to change over time to reflect the industry, the disclosure limitation policy will apply to all survey information collected under a pledge of confidentiality for Forms EIA-63A, EIA-63B, EIA-886, and EIA-902. The overall purpose of the these surveys is to provide credible, reliable, and timely information.

II. Discussion of Comments

EIA received no comments in response to the requests for public comments.

III. Current Actions

The EIA is announcing its disclosure limitation policy for statistical information based on survey data collected on Forms EIA-63A (“Annual Solar Thermal Collector Manufacturers Survey”), EIA-63B (“Annual Photovoltaic Module/Cell Manufacturers Survey”), EIA-886, (“Annual Survey of Alternative Fueled Vehicle Suppliers and Users)”, and EIA-902 (“Annual Geothermal Heat Pump Manufacturers Survey”).

For renewable fuels survey data collected on Forms EIA-63A, EIA-63B, and EIA-902, EIA's policy is to only apply disclosure limitation methods to statistics based on financial data reported on those forms. For statistics based on nonfinancial data reported on the forms, EIA will not apply disclosure limitation methods.

For alternative fueled vehicles and alternative transportation fuels data collected on Form EIA-886, EIA's policy is to only apply disclosure limitation methods to statistics based on projected data reported on Form EIA-886. For statistics based on historical data reported on Form EIA-886, EIA will not apply disclosure limitation methods.

EIA will continue to protect information collected under a pledge of confidentiality by not publicly releasing respondent-level survey data directly linked to names or other identifiers of the survey respondents. The policy is based on EIA's mandate for carrying out a central, comprehensive, and unified energy data and information program responsive to users' needs for credible, reliable, and timely energy information that will improve and broaden understanding of energy in the United States.

Statutory Authority: Section 52 of the Federal Energy Administration Act (Pub. L. 93-275, 15 U.S.C. 790a).

Issued in Washington, DC, April 12, 2004.
Guy F. Caruso,
Administrator, Energy Information Administration.

[FR Doc. 04-8769 Filed 4-16-04; 8:45 am]

BILLING CODE 6450-01-P